DEPARTMENT OF COMMERCE

International Trade Administration

[A-533-810]

Stainless Steel Bar From India: Extension of Time Limit for Preliminary Results in Antidumping Duty Administrative Review

AGENCY: Import Administration, International Trade Administration, Department of Commerce

ACTION: Extension of time limit for preliminary results of antidumping duty administrative review

EFFECTIVE DATE: August 4, 2003.

FOR FURTHER INFORMATION CONTACT: Michael Strollo at (202) 482-0629, Office of AD/CVD Enforcement 2, Import Administration, International Trade Administration, U.S. Department of Commerce, 14th Street and Constitution Avenue, NW., Washington DC 20230.

SUPPLEMENTARY INFORMATION: On March 25, 2003, the Department of Commerce (the Department) published in the Federal Register a notice of initiation of administrative review of the antidumping duty order on stainless steel bar from India. See Initiation of Antidumping and Countervailing Duty Administrative Reviews and Requests for Revocation in Part, 68 FR 14394 (March 25, 2003). The period of review is February 1, 2002, through March 31, 2003. The review covers seven exporters of the subject merchandise to the United States.

In accordance with section 751(a)(3)(A) of the Tarriff Act of 1930, as amended (the Act), the Department shall make a preliminary determination in an administrative review of an antidumping duty order within 245 days after the last day of the anniversary month of the date of publication of the order. The Act provides further, however, that the Department may extend the 245-day period to 365 days if it determines it is not practicable to complete the review within the foregoing time period. Due to the large number of respondents and the time required to review and analyze multiple supplemental responses, it is not practicable to complete this review within the time limit mandated by section 751(a)(3)(A) of the Act. Therefore, we have fully extended the deadline until February 28, 2004.

This extension is in accordance with section 751(a)(3)(A) of the Act.

Dated: July 29, 2003.
Laurie Parkhill,
Acting Deputy Assistant Secretary for Import Administration.

[FR Doc. 03-19755 Filed 8-1-03; 8:45 am]

BILLING CODE 3510-DS-P